DEPARTMENT OF THE INTERIOR

Bureau of Land Management

[NM-030-1430-EU; NMNM-108795]

North Fork Forty Competitive Sale of Public Land in Dona Ana County, NM.

AGENCY: Bureau of Land Management (BLM), Interior.

ACTION: Notice.

SUMMARY: The following public land in Dona Ana County, New Mexico, has been found suitable for competitive sale under Section 203 and 209 of the Federal Land Policy and Management Act (FLPMA) of 1976 (43 U.S.C. 1713 and 1719), at not less than the appraised fair market value (FMV).

New Mexico Principal Meridian

T. 23 S., R. 2 E.,

Section 3, Lot 3.

Containing 39.47 “gross” acres more or less and approximately 34.13 “net usable” acres (5.34 acres are within 100-year flood zone).

DATES:

Comments on Proposed Competitive Sale

Comments regarding the proposed competitive sale must be received by BLM on or before August 16, 2004.

Sale Date

The competitive sale will be held at the Bureau of Land Management, Las Cruces Field Office, 1800 Marquess, Las Cruces, New Mexico, at 10 a.m., m.s.t. on August 30, 2004.

Sealed Bids

Sealed bids must be received by BLM no later than 4:30 p.m., m.s.t. August 30, 2004. Sale Bid Forms with envelopes will be provided to all prospective bidders prior to the sale. The forms are available at the BLM, Las Cruces Field Office, 1800 Marquess, Las Cruces, NM 88005 or by calling (505) 525-4300. All oral bidders are required to register. Registration will be held at the BLM, Las Cruces Field Office, 1800 Marquess, Las Cruces, New Mexico beginning at 8 a.m. m.s.t. on the day of the sale and will end at 10 a.m., m.s.t.

Other deadline dates for receipt of payments, are specified in the proposed terms and conditions of sale, as stated herein.

ADDRESSES: Bureau of Land Management, Las Cruces Field Office, 1800 Marquess, Las Cruces, New Mexico 88005.

Comments regarding the proposed sale, as well as sealed bids should be submitted to the above address. The Sale Bid and Certification of Qualification forms will be available prior to the sale date at the Las Cruces Field Office or by calling (505) 525-4300. More detailed information regarding the proposed sale and the land involved may be reviewed during normal business hours (7:45 a.m., to 4:30 p.m.) at 1800 Marquess.

FOR FURTHER INFORMATION CONTACT: Angel Mayes, Realty Specialist at the address above; by calling (505) 525-4376; or by e-mail at amayes@nm.blm.gov.

SUPPLEMENTARY INFORMATION: The land has been authorized and designated for disposal in the Mimbres Resource Management Plan, dated December 1993, and the public interest will be served by offering this land for sale. The land is hereby classified for disposal in accordance with Executive Order No. 6910, and with Section 7 of the Taylor Grazing Act, 43 U.S.C. 315F. The proposed land will be put up for sale by competitive auction on August 30, 2004.

The auction will be held in accordance with the applicable provisions of Section 203 and 209 of FLPMA (43 U.S.C. 1713 and 1719), respectively, and its implementing regulations, 43 CFR Part 2710 and 2711, at not less than the appraised EMV for the parcel. The appraised EMV of the subject property is $850,000 (eight hundred and fifty thousand dollars and no cents).

The purpose of this sale is to dispose of a tract of land that will serve important public objectives, including but not limited to, expansion of communities and economic development, which cannot be achieved prudently or feasibly on land other than public land. The sale of this land outweighs other public objectives and values, including, but not limited to, recreation and scenic values, which would be served by maintaining such tract in Federal ownership. The sale does not affect a grazing allotment. No significant resource values will be affected by this transfer.

The locatable, salable, and leasable mineral rights will be conveyed simultaneously with the surface estate. The disposal would not generate any adverse energy impacts or limit energy production and distribution (Executive Order 13212). It has been determined that the subject parcel contains no mineral value. Acceptance of a sale offer will constitute an application for conveyance of these mineral interests. In conjunction with the final payment, the applicant will be required to pay a $50.00 non-refundable filing fee for processing the conveyance of the mineral interests when remitting final payment for the parcel.

On July 1, 2004, the above described land will be segregated from all other forms of appropriation under the public land laws, including the general mining laws and leasing under the mineral leasing laws. Upon publication of this notice and until completion of the sale, the BLM will no longer accept land use applications affecting the parcel identified for sale. The segregative effect of this notice shall terminate upon issuance of patent, upon publication in the Federal Register of a termination of the segregation or 270 days from the date of publication, whichever occurs first.

Terms and Conditions of Sale

The terms and conditions applicable to this sale are as follows:

1. Federal law requires that all bidders must be a United States citizens, 18 years of age or older; or

(a) A corporation subject to the laws of any State or of the United States, or

(b) A State, State instrumentality, or political subdivision authorized to hold property; or

(c) An entity legally capable of conveying and holding lands or interests therein under the laws of the State of New Mexico.

Certification of qualifications, including citizenship, corporation or partnership, must accompany the bid deposit. Bids must be made by the principal or his duly qualified agent. Certifications of Qualifications Forms are available at the BLM, Las Cruces Field Office, 1800 Marquess, Las Cruces, NM 88005 or by calling (505) 525-4300.

2. Sealed bids shall be considered only if received at the BLM Las Cruces Field Office, 1800 Marquess, Las Cruces, New Mexico no later than 4:30 p.m., m.s.t. on August 30, 2004.

Each sealed bid shall be enclosed in a sealed envelope, and include a completed sealed bid form, accompanied by a certified check, postal money order, bank draft, or cashier's check made payable to the Department of the Interior, Bureau of Land Management for not less than 10 percent or more than 30 percent of the bid amount. Sealed bids of less than the appraised FMV will be rejected. The highest qualified sealed bid received shall be publicly declared and will become the starting point for the oral auction. In the event that two or more sealed bids are received containing valid bids of the same amount, the determination of which is to be considered the highest designated bid will be by supplemental oral bidding. If no sealed bids are received, oral bidding will begin at the appraised EMV.

The highest qualifying bid for the parcel, whether sealed or oral, will be declared the high bid. The high bidder, if an oral bidder, must submit the full deposit amount (not less than 20 percent of the amount of the successful bid) by 4:30 p.m. m.s.t. on the day of the sale in the form of cash, personal check, bank draft, cashier's check, money order or any combination thereof, made payable to the Department of the Interior, Bureau of Land Management. Should the high bidder default, the next high bidder for the parcel will be declared the high bidder.

The successful bidder, whether sealed or oral, shall submit the remainder of the full bid price prior to the expiration of 180 days from the date of the sale in the form of cash, personal check, bank draft, cashier's check, money order or any combination thereof, made payable to the Department of the Interior, Bureau of Land Management. Failure to submit the full bid price prior to, but not including the 180th day following the day of the sale, shall result in cancellation of the sale and the deposit shall be forfeited.

3. The BLM may accept or reject any or all offers, or withdraw any parcel of land or interest therein from sale, if, in the opinion of the authorized officer, consummation of the sale would not be fully consistent with FLPMA or other applicable laws. If not sold, the parcel may be identified for sale at a later date without further legal notice.

In order to establish the EMV of the subject public land through appraisal, certain assumptions have been made of the attitudes and limitations of the land and potential effects of local regulations and policies on potential future land uses.

Through publication of this notice, BLM gives notice that these assumptions may not be endorsed or approved by units of local government. It is the buyer's responsibility to be aware of all applicable local government policies, laws, and regulations that would affect the subject land, including any required dedication of lands for public uses.

No warranty of any kind shall be given or implied by the United States as to the potential uses of the lands offered for sale. Furthermore, conveyance of the subject land will not be on a contingency basis. It is also the buyer's responsibility to be aware of existing or projected use of neighboring and nearby properties. When conveyed out of Federal ownership, the land will be subject to any applicable reviews and approvals by the respective unit of local government for proposed future uses, and any such reviews and approvals would be the responsibility of the buyer.

4. A right-of-way is reserved for ditches and canals constructed by the authority of the United States, under the Act of August 30, 1890 (26 Stat. 391; 43 U.S.C. 945).

5. The parcel is subject to valid existing rights-of-way and easements.

6. The parcel is subject to those rights for a 115Kv power transmission line granted to El Paso Electric company, 8.5 miles in length by 50 feet wide, by right-of-way grant NMNM-0554552 on December 4, 1964, pursuant to the Act of March 4, 1911 (43 U.S.C. 961), converted on October 2003 to the Act of October 21, 1976, (43 U.S.C. 1761) as to lot 3, sec. 3, T. 23 S., R. 2 E.

7. The parcel is subject to those rights for a road and utility rights-of-way granted to the City of Las Cruces by right-of-way grant NMNM-104094 on January 24, 2001, pursuant to the Act of October 21, 1976, (43 U.S.C. 1761), as to lot 3, Section 3, T. 23 S., R. 2 E.

8. Pursuant to the authority contained in Section 3(d) of Executive Order 11988 of May 24, 1977 and Section 203 of FLPMA of 1976 (90 Stat. 2740; 43 U.S.C. 1713 and 1719), this patent is subject to a restriction which constitutes a covenant running with the land, whereby, that portion of the land located within the 100-year flood event, may not be used for buildings, dwellings or structures for human habitation, public service installations needing high protection; permanent memorial cemeteries; and similar type use and structures. Further, uses of this area will be limited to uses consistent with nature reserves, parks, and open space. Public access will be unrestricted on the Federal parcel which is subject to a 100-year flood event described as a 5.34 acre tract:

A tract of land situated northeast of the City of Las Cruces, Dona Ana County, New Mexico, located in Section 3, T. 23 S., R. 2 E., NMPM, of the U.S.G.L.O. Surveys, and being more particularly described as follows, to wit:

Beginning at the most Northeast corner of tract, from which quarter section corner of sections 3 and 34 bears North (N).0°47′ East (E)., 638.84 feet;

Thence, South (S) 0°47′00″ West (W), a distance of 367.80 feet to an angle point;

Thence, S.45°52′03″ W., a distance of 32.49 feet to an angle point;

Thence, S.32°09′48″ W., a distance of 162.74 feet to an angle point;

Thence, S.63°08′47″ W., a distance of 206.85 feet to an angle point;

Thence, S.44°54′24″ W., a distance of 77.06 feet to an angle point;

Thence, s.89°55′10″ W., a distance of 376.21 feet to an angle point;

Thence, N. 49°52′57″ E., a distance of 158.49 feet to an angle point;

Thence, N.20°26′35″ E., a distance of 226.35 feet to an angle point;

Thence, N.59°39′04″ E., a distance of 203.95 feet to an angle point;

Thence, N.53°17′18″ E., a distance of 432.89 feet to an angle point;

Thence, n.84°29′10″ E., a distance of 6.82 feet to the point of beginning, enclosing 5.34 acres more or less.

Subject to all easements and reservations of record. The description prepared by Scanlon White, Inc., License No. 9433.

Public Comments

Interested parties may submit written comments regarding the proposed sale to the Field Manager, BLM, Las Cruces Field Office, on or before August 16, 2004. Any adverse comments will be reviewed by the BLM New Mexico State Director, who may sustain, vacate, or modify this notice in whole or in part. In the absence of any adverse comments, this notice will become the final determination of the Department of the Interior. Any comments received during this process, as well as the commenter's name and address, will be available to the public in the administrative record or pursuant to a Freedom of Information Act request. You may indicate for the record that you do not wish to have your name or address made available to the public. Any determination by the BLM to release or withhold the names or addresses of those who comment will be made on a case-by-case basis. A request from a commenter to have their name or address withheld from public release will be honored to the extent permissible by law. BLM will not accept anonymous comments.

Detailed information concerning the sale, including the restrictions, reservations, sale procedures and conditions and planning and environmental documents are available for review at the BLM, Las Cruces Field Office or by calling (505) 525-4300.

Dated: May 7, 2004.
Edwin L. Roberson,
Field Manager, Las Cruces.

[FR Doc. 04-14884 Filed 6-30-04; 8:45 am]

BILLING CODE 4310-VC-P